SMALL BUSINESS ADMINISTRATION

[License No. 06/76-0330]

SunTx Fulcrum Fund II—SBIC, L.P.; Notice Seeking Exemption Under Section 312 of the Small Business Investment Act, Conflicts of Interest

Notice is hereby given that SunTx Fulcrum Fund II—SBIC, L.P., 14001 N. Dallas Parkway, Suite 111, Dallas, Texas 75240, a Federal Licensee under the Small Business Investment Act of 1958, as amended (“the Act”), in connection with the financing of a small concern, has sought an exemption under section 312 of the Act and section 107.730, Financings which Constitute Conflicts of Interest of the Small Business Administration (“SBA”) rules and regulations (13 CFR 107.730 (2002)). SunTx Fulcrum Fund II—SBIC, L.P. proposes to invest in Interface Security Systems Holdings, Inc. (“Interface”). The financing will provide the funding for the future acquisitions.

The financing is brought within the purview of Sec. 107.730(a) and Section 107.730(d) of the Regulations because SunTx Fulcrum Fund, L.P. and SunTx Fulcrum Dutch Investors, L.P., Associates of SunTx Fulcrum Fund II—SBIC, L.P., owns 93.87% of the existing and outstanding ownership of Interface.

Therefore, this transaction is considered financing of an Associate requiring prior SBA approval.

Notice is hereby given that any interested person may submit written comments on the transaction, within 15 days of the date of this publication, to the Associate Administrator for Investment, U.S. Small Business Administration, 409 Third Street, SW., Washington, DC 20416.

Dated: September 19, 2005.
Jaime Guzman-Fournier,
Associate Administrator For Investment.

[FR Doc. 05-19101 Filed 9-23-05; 8:45 am]

BILLING CODE 8025-01-P